DEPARTMENT OF TRANSPORTATION

Federal Highway Administration

Notice of Final Federal Agency Actions on Proposed Highway in Texas

AGENCY: Federal Highway Administration (FHWA), DOT

ACTION: Notice of Limitation on Claims for Judicial Review of Actions by FHWA and Other Federal Agencies

SUMMARY: This notice announces actions taken by the FHWA and other Federal agencies that are final within the meaning of 23 U.S.C. § 139(l)(1). The actions relate to a proposed highway project, Trinity Parkway from Interstate Highway 35 East (IH35E)/State Highway (SH) 183 to U.S. 175/SH 310 in the County of Dallas, State of Texas. Those actions grant licenses, permits, and approvals for the project.

DATES: By this notice, the FHWA is advising the public of final agency actions subject to 23 U.S.C. § 139(l)(1). A claim seeking judicial review of the Federal agency actions on the highway project will be barred unless the claim is filed on or before September 8, 2015. If the Federal law that authorizes judicial review of a claim provides a time period of less than 150 days for filing such claim, then that shorter time period still applies.

FOR FURTHER INFORMATION CONTACT: Mr. Achille Alonzi, Division Administrator, Texas Division, Federal Highway Administration, 300 E. 8th Street, Room 826, Austin, Texas 78701; 8:00 a.m. to 5:00 p.m. (central daylight time) Monday through Friday, 512-536-5902; email: al.alonzi@dot.gov.

SUPPLEMENTARY INFORMATION: Notice is hereby given that the FHWA and other Federal agencies have taken final agency actions by issuing licenses, permits, and approvals for the following highway project in the State of Texas: The Trinity Parkway (Texas Department of Transportation CSJ 0918-45-121) would consist of a limited-access toll facility on new location in the City of Dallas, extending from the IH 35E/SH 183 interchange (northern terminus) to the US 175/SH 310 interchange (southern terminus), a distance of approximately nine miles. The facility would ultimately consist of six mixed-flow tolled mainlanes, local street interchanges, and interchanges at the northern terminus, southern terminus, Woodall Rodgers Freeway, and IH 45. The primary purpose for the Trinity Parkway is to manage congestion on existing highways through the downtown Dallas area. Trinity Parkway would help manage congestion on IH 35E (Lower Stemmons and South R.L. Thornton Freeways), IH 30, and other major transportation facilities within the Trinity Parkway project area to improve mobility and safety, and thereby increase accessibility to businesses and public facilities.

The actions by the Federal agencies, and the laws under which such actions were taken, are described in the Final Environmental Impact Statement (FEIS) for the project, approved on March 7, 2014, in the FHWA Record of Decision (ROD) issued on April 2, 2015, and in other documents in the FHWA administrative record. The FEIS, ROD, and other documents in the FHWA administrative record file are available by contacting the FHWA at the address provided above. The FHWA FEIS and ROD can be viewed and downloaded from the project Web site at: https://www.ntta.org/roadsprojects/futproj/trihwy/Pages/Project-Meeting-Materials.aspx.

This notice does not apply to the U.S. Army Corps of Engineering (U.S.A.C.E.) permitting process for this project, because no U.S.A.C.E. permits have been issued the project to date. This notice applies to all Federal agency decisions as of the issuance date of this notice and all laws under which such actions were taken, including but not limited to:

1. General: National Environmental Policy Act (NEPA) [42 U.S.C. 4321-4375]; Federal-Aid Highway Act [23 U.S.C. 109].

2. Air: Clean Air Act [42 U.S.C. 7401-7671(q)]

3. Land: Uniform Relocation and Real Property Acquisition Policies Act of 1970 [42 U.S.C. 4601-4655]; Section 4(f) of the Department of Transportation Act of 1966 [Pub. L. No. 111-212, Section 405 (a)(b)].

4. Wildlife: Endangered Species Act [16 U.S.C. 1531-1544]; Migratory Bird Treaty Act [16 U.S.C. 703-712]; Bald and Golden Eagle Protection Act of 1940 [16 U.S.C. 668]; Fish and Wildlife Coordination Act [16 U.S.C. 661-666(c)].

5. Social and Economic: Civil Rights Act of 1964 [42 U.S.C. 2000(d)-2000(d)(1)]; Section 504 of the Americans with Disability Act; Farmland Protection Policy Act (FPPA) [7 U.S.C. 4201-4209].

6. Wetlands and Water Resources: Clean Water Act [33 U.S.C. 1251-1342 (Sections 303(d), 305(b), and 402)]; Section 9 of the Rivers and Harbors Act of 1899 [33 U.S.C. 401], as modified by the General Bridge Act of 1946 [33 U.S.C. 525]; Wild and Scenic Rivers Act [16 U.S.C. 1271-1287]; Safe Drinking Water Act of 1996 [42 U.S.C. 300(f)-300(j)(6)]; Section 6(f) of the Land and Water Conservation Fund (LWCF) Act [16 U.S.C. 460l-4 et seq.].

7. Executive Orders: E.O. 11990 Protection of Wetlands; E.O. 11988 Floodplain Management; E.O. 13112 Invasive Species; E.O. 12898 Federal Actions to Address Environmental Justice in Minority Populations and Low Income Populations; E.O. 13166 Improving Access to Services for Persons with Limited English Proficiency (LEP).

(Catalog of Federal Domestic Assistance Program Number 20.205, Highway Planning and Construction. The regulations implementing Executive Order 12372 regarding intergovernmental consultation on Federal programs and activities apply to this program.)

Authority: 23 U.S.C. § 139(l)(1)

Issued on: April 3, 2015.
Achille Alonzi,
Division Administrator.

[FR Doc. 2015-08140 Filed 4-8-15; 8:45 am]

BILLING CODE 4910-RY-P